DEPARTMENT OF STATE

[Public Notice: 7038]

Notice of Meeting of the Advisory Committee on International Law

A meeting of the Advisory Committee on International Law will take place on Monday, June 21, 2010, from 9:30 a.m. to approximately 5:30 p.m., at the George Washington University Law School (Michael K. Young Faculty Conference Center, 5th Floor), 2000 H St., NW., Washington, DC. The meeting will be chaired by the Legal Adviser of the Department of State, Harold Hongju Koh, and will be open to the public up to the capacity of the meeting room. It is anticipated that the agenda of the meeting will cover a range of current international legal topics, including the International Criminal Court review conference and ad hoc international criminal tribunals; the law of war regarding detention, targeting, and prosecution; binding international agreements and non-binding arrangements; nuclear nonproliferation; international cooperation on piracy; the international responsibility of international organizations, and the International Law Commission. Members of the public will have an opportunity to participate in the discussion.

Members of the public who wish to attend the session should, by Tuesday, June 15, 2010, notify the Office of the Legal Adviser (telephone: 202-776-8323) of their name, professional affiliation, address, and telephone number. A valid photo ID is required for admittance. A member of the public who needs reasonable accommodation should make his or her request by June 14, 2010; requests made after that time will be considered but might not be possible to accommodate.

Dated: June 2, 2010.
David DeBartolo,
Executive Director, Office of Claims and Investment Disputes, Office of the Legal Adviser, Advisory Committee on International Law, Department of State.

[FR Doc. 2010-13704 Filed 6-7-10; 8:45 am]

BILLING CODE 4710-08-P